DEPARTMENT OF TRANSPORTATION

Federal Aviation Administration

[Summary Notice No. PE-2000-56]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption Part 11 of Title 14, Code of Federal Regulations (14 CFR), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before November 2, 2000.

ADDRESSES: Send comments on any petition in triplicate to: Federal Aviation Administration, Office of the Chief Counsel, Attn: Rule Docket (AGC-200), Petition Docket No. ____, 800 Independence Avenue, SW., Washington, DC 20591.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Forest Rawls (202) 267-8033, or Vanessa Wilkins (202) 267-8029 Office of Rulemaking (ARM-1), Federal Aviation Administration, 800 Independence Avenue, SW., Washington, DC 20591.

This notice is published pursuant to §§ 11.85 and 11.91 of part 11 of the Federal Aviation Regulations (14 CFR part 11).

Issued in Washington, D.C., on October 6, 2000.
Donald P. Byrne,
Assistant Chief Counsel of Regulations.

Dispositions of Petitions

Docket No.: 30154

Petitioner: Phoenix Air Medical Services

Section of the 14 CFR Affected: 14 CFR 135.251, 135.255, 135.353, and appendixes I and J to part 121.

Description of Relief Sought/Disposition: To permit PAMS to conduct local sightseeing flights at Gastonia Airport for a charitable event on September 30 and October 1, 2000, for compensation or hire, without complying with certain anti-drug and alcohol misuse prevention requirements of part 135.

Grant, 09/27/00, Exemption No. 7361

Docket No.: 25245

Petitioner: Department of the Air Force

Section of the 14 CFR Affected: 14 CFR 91.215(b) and (c).

Description of Relief Sought/Disposition: To permit USAF to conduct certain military training flight operations in designated airspace above 10,000 feet mean sea level without being required to operate the aircraft transponders.

Grant, 09/27/00, Exemption No. 4633H

Docket No.: 30070

Petitioner: The Lancair Company

Section of the 14 CFR Affected: 14 CFR 47.65.

Description of Relief Sought/Disposition: To permit petitioner to obtain a Dealer's Aircraft Registration Certificate without meeting the United States citizenship requirements.

Grant, 08/30/00, Exemption No. 7330

Docket No.: 29491

Petitioner: Am-Safe, Inc.

Section of the 14 CFR Affected: 14 CFR 21.325(b)(3).

Description of Releif Sought/Disposition: To permit Am-Safe to issue export airworthiness approvals for Class II and III products manufactured by Am-Safe, Ltd., in England under Am-Safe's technical standard order authorization (TSOAs).

Grant, 09/08/00, Exemption No. 7354

Docket No.: 29335

Petitioner: Honeywell International, Inc.

Section of the 14 CFR Affected: 14 CFR 21.325(b)(3).

Description of Relief Sought/Disposition: To permit AlliedSignal, Inc., Aerospace Equipment Systems (AES Tempe) to issue export airworthiness approval tags for Class II and Class III products manufactured in Singapore by its AlliedSignal Singapore facility as an approved supplier to AES Tempe under AES Tempe's PMA No. PQ1222NM.

Grant, 09/13/00, Exemption No. 7075A

[FR Doc. 00-26240 Filed 10-11-00; 8:45 am]

BILLING CODE 4910-13-M